DEPARTMENT OF LABOR

Employment and Training Administration

[TA-W-65,396]

Berkline/Benchcraft, LLC, Morristown, TN; Notice of Termination of Investigation

Pursuant to Section 221 of the Trade Act of 1974, as amended, an investigation was initiated on February 26, 2009 in response to a worker petition filed by a company official on behalf of workers of Berkline/Benchcraft, LLC, Morristown, Tennessee.

The petitioner has requested that the petition be withdrawn. Consequently, the investigation has been terminated.

Richard Church,
Certifying Officer, Division of Trade Adjustment Assistance.

[FR Doc. E9-5919 Filed 3-18-09; 8:45 am]

BILLING CODE 4510-FN-P